DEPARTMENT OF HEALTH AND HUMAN SERVICES

Centers for Medicare & Medicaid Services

[CMS-5506-N2]

Medicare Program; Comprehensive ESRD Care Initiative; Extension of the Submission Deadlines for the Letters of Intent and Applications

AGENCY: Centers for Medicare & Medicaid Services (CMS), HHS.

ACTION: Notice of extension of deadlines.

SUMMARY: This notice reopens the Letter of Intent submission period for the Comprehensive ESRD Care initiative letters of intent. Letters of Intent are now due on or before July 19, 2013. All potential applicants must submit a Letter of Intent to be eligible to submit an application. The submission deadline for the application has been extended to August 1, 2013.

DATES: Letter of Intent Submission Deadline: Interested organizations must submit a non-binding letter of intent on or before July 19, 2013, by an online form at: https://cmsgov.secure.force.com/cec.

Application Submission Deadline: Interested organizations must submit an application on or before August 1, 2013, as described on the Innovation Center Web site at: http://innovation.cms.gov/initiatives/comprehensive-ESRD-care/apply.html. Interested organizations should also continue to check the Web site for updates on this initiative.

FOR FURTHER INFORMATION CONTACT: Melissa Cohen, (410) 786-1829 or ESRD-CMMI@cms.hhs.gov.

SUPPLEMENTARY INFORMATION:

I. Background

The Center for Medicare and Medicaid Innovation (Innovation Center) is interested in identifying models designed to improve care for beneficiaries with end-stage renal disease (ESRD). To promote seamless and integrated care for beneficiaries with ESRD, we are developing a comprehensive care delivery model to emphasize coordination of a full-range of clinical and non-clinical services across providers, suppliers, and settings. Through the Comprehensive ESRD Care Model, we seek to identify ways to improve the coordination and quality of care for this population, while lowering total per-capita expenditures under the Medicare program. We anticipate that the Comprehensive ESRD Care Model would result in improved health outcomes for beneficiaries with ESRD regarding the functional status, quality of life, and overall well-being, as well as increased beneficiary and caregiver engagement, and lower costs to Medicare through improved care coordination.

On February 6, 2013, we published a notice in the Federal Register announcing a request for applications from organizations to participate in the testing of the Comprehensive ESRD Care Model, for a period beginning in 2013 and ending in 2016, with a possible extension into subsequent years.

In that notice, we stated that organizations interested in applying to participate in the testing of the Comprehensive ESRD Care Model must submit a non-binding letter of intent by March 15, 2013, and an application by May 1, 2013.

II. Provisions of the Notice

Since the publication of the February 6, 2013 notice, several stakeholders have requested additional time to prepare their applications and form partnerships. Therefore, the Innovation Center is extending the following deadlines relating to the Comprehensive ESRD Care initiative: (1) The letter of intent submission period has been reopened. The deadline for submission of the letter of intent has been extended to July 19, 2013; and (2) the deadline for submission of the application has been extended to August 1, 2013.

In the DATES section of this notice, we are including the new submissions deadlines. For additional information on the Comprehensive ESRD Care Model and how to apply, we refer readers to click on the Request for Applications located on the Innovation Center Web site at: http://innovation.cms.gov/initiatives/comprehensive-ESRD-care.

(No. 93.773 Medicare—Hospital Insurance Program; and No. 93.774, Medicare-Supplementary Medical Insurance Program)

Dated: July 9, 2013.
Marilyn Tavenner,
Administrator, Centers for Medicare & Medicaid Services.

[FR Doc. 2013-17131 Filed 7-16-13; 8:45 am]

BILLING CODE 4120-01-P